DEPARTMENT OF HOMELAND SECURITY

Federal Emergency Management Agency

44 CFR Part 67

[Docket ID FEMA-2014-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Mercer County, Pennsylvania (All Jurisdictions)
Docket No.: FEMA-B-1127
Baker Run | Approximately 55 feet upstream of Highland Road | +1114 | City of Sharon.
| Approximately 30 feet downstream of Richmond Drive | +1117
Little Shenango River | Approximately 0.94 mile downstream of the confluence with Little Shenango River Tributary 1 | +968 | Township of Sugar Grove.
| Approximately 0.9 mile downstream of the confluence with Little Shenango River Tributary 1 | +968
Munnel Run | Approximately 0.31 mile upstream of Home Street | +1125 | Township of Findley.
| Approximately 0.21 mile downstream of Franklin Street | +1131
Neshannock Creek | Approximately 425 feet downstream of the intersection of Plantation Drive and Cypress Lane | +1093 | Township of Findley.
| Approximately 0.3 mile upstream of the intersection of Schaffer Road and Grove City Road | +1095
Otter Creek | Approximately 0.28 mile upstream of the confluence with Munnel Run | +1099 | Township of Findley.
| Approximately 0.3 mile upstream of the confluence with Munnel Run | +1099
Sawmill Run | Approximately 0.35 mile upstream of the confluence with Sawmill Run Tributary 1 | +1164 | Township of Sandy Lake.
| Approximately 0.46 mile upstream of the confluence with Sawmill Run Tributary 1 | +1165
Sawmill Run | Approximately 0.23 mile downstream of Franklin Street (just below Maple Street) | +1167 | Borough of Stoneboro.
| Approximately 305 feet upstream of Franklin Street | +1167
Shenango River | Approximately 690 feet upstream of the confluence with Big Run No. 1 | +930 | Borough of Greenville, Township of West Salem.
| Approximately 295 feet upstream of the intersection of Clinton Street and Canal Street | +943
Shenango River | Approximately 275 feet upstream of the confluence with Shenango River Tributary 3 | +835 | City of Hermitage.
| Approximately 490 feet downstream of the confluence with Little Yankee Run | +845
| Just downstream of Clark Street | +856
| Approximately 820 feet upstream of the confluence with Big Run No. 2 | +859
Shenango River | Approximately 2,400 feet upstream of I-80 | +833 | Township of Shenango.
| Approximately 1.1 miles upstream of I-80 | +833
Shenango River | Approximately 645 feet downstream of Sieg Hill Road | +833 | Borough of Wheatland.
| Approximately 1,000 feet upstream of Sieg Hill Road | +834
Shenango River | Approximately 0.34 mile upstream of the confluence with the Little Shenango River | +949 | Township of West Salem.
| Approximately 200 feet downstream of Porter Road | +951
Wolf Creek | Approximately 0.21 mile upstream of the confluence with Barmore Run | +1220 | Township of Pine.
| Approximately 0.34 mile downstream of the intersection of Craig Street and Garden Avenue | +1226
| Approximately 0.2 mile downstream of the intersection of Craig Street and Garden Avenue | +1226
| Approximately 0.38 mile downstream of State Route 58 (Main Street) | +1226
| Approximately 0.22 mile downstream of the confluence with Black Run | +1245
| Approximately 0.21 mile downstream of the confluence with Black Run | +1245
* National Geodetic Vertical Datum.
+ North American Vertical Datum.
# Depth in feet above ground.
‸ Mean Sea Level, rounded to the nearest 0.1 meter.
ADDRESSES
Borough of Greenville
Maps are available for inspection at the Borough Building, 125 Main Street, Greenville, PA 16125.
Borough of Stoneboro
Maps are available for inspection at the Borough Building, 59 Lake Street, Stoneboro, PA 16153.
Borough of Wheatland
Maps are available for inspection at the Borough Building, 71 Broadway Avenue, Wheatland, PA 16161.
City of Hermitage
Maps are available for inspection at City Hall, 800 North Hermitage Road, Hermitage, PA 16148.
City of Sharon
Maps are available for inspection at the Municipal Building, 155 West Connelly Boulevard, Sharon, PA 16146.
Township of Findley
Maps are available for inspection at the Findley Township Building, 369 McClelland Road, Mercer, PA 16137.
Township of Pine
Maps are available for inspection at the Pine Township Building, 545 Barkeyville Road, Grove City, PA 16127.
Township of Sandy Lake
Maps are available for inspection at the Township Building, 3086 Sandy Lake-Grove City Road, Sandy Lake, PA 16145.
Township of Shenango
Maps are available for inspection at the Shenango Township Building, 3439 Hubbard-West Middlesex Road, West Middlesex, PA 16159.
Township of Sugar Grove
Maps are available for inspection at the Sugar Grove Township Building, 359 Groover Road, Greenville, PA 16125.
Township of West Salem
Maps are available for inspection at the West Salem Township Building, 610 Vernan Road, Greenville, PA 16125.

(Catalog of Federal Domestic Assistance No. 97.022, “Flood Insurance.”)

Dated: January 31, 2014.
Roy E. Wright,
Deputy Associate Administrator for Mitigation, Department of Homeland Security, Federal Emergency Management Agency.

[FR Doc. 2014-06092 Filed 3-19-14; 8:45 am]

BILLING CODE 9110-12-P